DEPARTMENT OF THE INTERIOR

Fish and Wildlife Service

Endangered Species Recovery Permit Applications

AGENCY: Fish and Wildlife Service, Interior.

ACTION: Notice of receipt of permit applications.

SUMMARY: The following applicants have applied for a scientific research permit to conduct certain activities with endangered species pursuant to section 10(a)(1)(A) of the Endangered Species Act (16 U.S.C. 1531 et seq.). The U.S. Fish and Wildlife Service (“we”) solicits review and comment from local, State, and Federal agencies, and the public on the following permit requests.

DATES: Comments on these permit applications must be received on or before February 25, 2004, to receive our consideration.

ADDRESSES: Written data or comments should be submitted to the U.S. Fish and Wildlife Service, Chief, Endangered Species, Ecological Services, 911 NE. 11th Avenue, Portland, Oregon 97232-4181 (fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 30 days of the date of publication of this notice to the address above (telephone: 503-231-2063). Please refer to the respective permit number for each application when requesting copies of documents.

SUPPLEMENTARY INFORMATION:

Permit No. TE-079442

Applicant: David Zippin, San Jose, California.

The applicant requests a permit to remove/reduce to possession (collect plants and seeds) Cordylanthus palmatus (palmate-bracted bird's-beak) in conjunction with research in Yolo, Colusa, Alameda, and Madera Counties, California, for the purpose of enhancing its survival.

Permit No. TE-839211

Applicant: Marnie McKernan, Redlands, California.

The permittee requests an amendment to take (harass by survey and locate and monitor nests) the southwestern willow flycatcher (Empidonax traillii extimus), and take (harass by survey) the San Bernardino kangaroo rat (Dipodomys merriami parvus) in conjunction with demographic studies in Riverside, San Bernardino, Orange, Imperial, and San Diego Counties, California, for the purpose of enhancing their survival.

Permit No. TE-080293

Applicant: Jolene Pucci, Northridge, California.

The applicant requests a permit to remove/reduce to possession (collect plants and seeds) Pentachaeta lyonii (Lyon's pentachaeta) in conjunction with research in Los Angeles and Ventura Counties, California, for the purpose of enhancing its survival.

Permit No. TE-080297

Applicant: Ellen Cypher, Bakersfield, California.

The applicant requests a permit to remove/reduce to possession (collect plants and seeds) Cordylanthus palmatus (palmate-bracted bird's-beak), Eremalche kernensis (Kern mallow), Opuntia treleasei (Bakersfield cactus), and Pseudobahia bahiifolia (Hartweg's golden sunburst) in conjunction with research in Fresno, Colusa, Glenn, Alameda, Madera, San Joaquin, Yolo, Kern, Stanislaus, and Tulare Counties, California, for the purpose of enhancing their survival.

Permit No. TE-839891

Applicant: Jack Levy, Pasadena, California.

The permittee requests an amendment to take (harass by photographing) the Behren's silverspot butterfly (Speyeria zerene behrensii), the Callippe silverspot butterfly (Speyeria callippe callippe), the Carson wandering skipper (Pseudocopaeodes eunus obscurus), the Lange's metalmark butterfly (Apodemia mormo langei), the lotis blue butterfly (Lycaeides argyrognomon lotis), the mission blue butterfly (Icaricia icarioides missionensis), the Myrtle's silverspot butterfly (Speyeria zerene myrtleae), the San Bruno elfin butterfly (Callophrys mossii bayensis), and the Smith's blue butterfly (Euphilotes (=Shijimiaeoides) enoptes smithi) in conjunction with research in San Mateo, Santa Clara, Alameda, Lassen, Contra Costa, Mendocino, Marin, and Monterey Counties, California, for the purpose of enhancing their survival.

Permit No. TE-066621

Applicant: Naval Base Ventura County Point Mugu, Point Magu, California.

The permittee requests an amendment to take (harass) the California least tern (Sterna antillarum browni) in conjunction with monitoring by camera at Naval Base Ventura County Point Mugu, California, for the purpose of enhancing its survival.

Permit No. TE-080774

Applicant: U.S. Forest Service, Arcata, California.

The applicant requests a permit to take (capture, handle, radio-tag, mark, and release) the Point Arena mountain beaver (Aplodontia rufa nigra) in conjunction with ecological research in Mendocino County, California, for the purpose of enhancing its survival.

Permit No. TE-080779

Applicant: Melissa Wilson, San Diego, California.

The applicant requests a permit to take (harass by survey) the Conservancy fairy shrimp (Branchinecta conservatio), the longhorn fairy shrimp (Branchinecta longiantenna), the Riverside fairy shrimp (Streptocephalus wootoni), the San Diego fairy shrimp (Branchinecta sandiegonensis), the vernal pool tadpole shrimp (Lepidurus packardi), and take (survey by pursuit) the Quino checkerspot butterfly (Euphydryas editha quino) in conjunction with surveys throughout the range of each species in California for the purpose of enhancing their survival.

We solicit public review and comment on each of these recovery permit applications.

Dated: December 19, 2003.
Paul L. Henson,
Acting Manager, California/Nevada Operations Office, Region 1, U.S. Fish and Wildlife Service.

[FR Doc. 04-1556 Filed 1-23-04; 8:45 am]

BILLING CODE 4310-55-P